DEPARTMENT OF TRANSPORTATION

Federal Railroad Administration

[Docket No. FRA-2015-0007-N-2]

Notification of Modification of Information Collection Requirements; Comment Request

AGENCY: Federal Railroad Administration (FRA), Department of Transportation (DOT).

ACTION: Notice and comment request.

SUMMARY: Consistent with the Paperwork Reduction Act of 1995 and its implementing regulations, this document provides notice of FRA's intent to modify the existing instructions applicable to one currently approved information collection reporting form (Form FRA F 6180.54, Rail Equipment Accident/Incident Report). For a projected five-year period, FRA seeks to gather additional data on Form FRA F 6180.54 concerning rail cars carrying petroleum crude oil (crude oil) in any train involved in an FRA reportable accident. At present, railroads do not report this specific information to FRA on Form FRA F 6180.54, but rather aggregate crude oil information with information about all other hazardous materials being transported. This new reporting requirement will help FRA capture more specific information on accidents that involve trains transporting crude oil and provide FRA an opportunity to better address risks to railroad safety and the general public.

DATES: Comments are requested no later than June 23, 2015. Comments received after that date will be considered to the extent possible without incurring additional expense or delay.

ADDRESSES: Comments: Comments related to Docket No. FRA-2015-0007-N-2, Notice No. 2, may be submitted by any of the following methods:

• Web site: The Federal eRulemaking Portal, www.regulations.gov. Follow the Web site's online instructions for submitting comments.

• Fax: 202-493-2251.

• Mail: Docket Management Facility, U.S. Department of Transportation, 1200 New Jersey Avenue SE., Room W12-140, Washington, DC 20590.

• Hand Delivery: Docket Management Facility, U.S. Department of Transportation, 1200 New Jersey Avenue SE., Room W12-140 on the Ground level of the West Building, between 9 a.m. and 5 p.m., Monday through Friday, except Federal holidays.

Instructions: All submissions must include the agency name, docket name, and docket number. Note that all comments received will be posted without change to http://www.regulations.gov, including any personal information provided. Please see the Privacy Act heading in the SUPPLEMENTARY INFORMATION section of this document for Privacy Act information related to any submitted comments or materials.

Docket: For access to the docket to read background documents or comments received, go to http://www.regulations.gov at any time or visit the Docket Management Facility at the address noted in the ADDRESSES section of this notice, between 9 a.m. and 5 p.m., Monday through Friday, except Federal holidays.

FOR FURTHER INFORMATION CONTACT: Kebo Chen, Staff Director, Railroad Safety Information Management Division, U.S. Department of Transportation, Federal Railroad Administration, Office of Railroad Safety, Mail Stop 25, West Building 3rd Floor, 1200 New Jersey Avenue SE., Washington, DC 20590 (telephone: 202-493-6079); or Sara Mahmoud-Davis, Trial Attorney, U.S. Department of Transportation, Federal Railroad Administration, Office of Chief Counsel, Mail Stop 10, West Building 3rd Floor, 1200 New Jersey Avenue SE., Washington, DC 20590 (telephone: 202-366-1118).

SUPPLEMENTARY INFORMATION: In light of recent rail accidents involving trains transporting crude oil, FRA intends to modify the existing instructions on Form FRA F 6180.54 titled Rail Equipment Accident/Incident Report (the Form) to gather data concerning rail cars carrying crude oil in trains involved in reportable accidents. Specifically, for a projected five-year period, FRA intends to utilize the Form's Special Study Block 49b to collect the following information regarding trains involved in FRA reportable accidents: (1) The number of rail cars carrying crude oil; (2) the number of cars damaged or derailed carrying crude oil; and (3) the number of cars releasing crude oil.

The rail transportation of crude oil, a Class 3 flammable liquid hazardous material, is subject to the Federal hazardous material transportation regulations (49 CFR parts 171-180) the Pipeline and Hazardous Materials Safety Administration (PHMSA) promulgated and FRA's rail safety regulations. Although railroads are currently required to report to both PHMSA and FRA certain information on any release of a regulated hazardous material that occurs during the rail transportation of the commodity, they are not required to report certain commodity specific information. Information railroads are not currently required to report includes the number of rail cars carrying crude oil, the number of those cars that are damaged and/or derailed in an accident, and the number of those cars that release crude oil as a result of a reportable accident.

FRA has solicited input from members of the railroad industry to explain the type of data needed and obtain their views. To the extent possible, FRA's proposal takes into consideration the industry's feedback.

The Paperwork Reduction Act of 1995, Public Law 104-13, sec. 2, 109 Stat. 163 (1995) (codified as revised at 44 U.S.C. 3501-3520), and its implementing regulations, 5 CFR part 1320, require Federal agencies to provide 60-days' notice to the public for comment on information collection activities before seeking approval for reinstatement or renewal by OMB. 44 U.S.C. 35069(c)(2)(A); 5 CFR 1320.8(d)(1), 1320.10(e)(1), 1320.12(a). Here, FRA is seeking public comment on its proposal to modify the instructions of the Form to utilize Special Study Block 49b to gather the specified data. A copy of FRA's proposed modified instructions is published as an attachment to this notice.

FRA seeks to modify these instructions as it explained in the preamble to FRA's 1996 final rule on Railroad Accident Reporting. See 61 FR 30947, Jun. 18, 1996. Specifically, the preamble to that final rule provides that:

The Rail Equipment Accident/Incident Report (Form FRA F 6180.54) contains two SSBs in block “49.” As the need arises, FRA will notify the railroads in writing, or if appropriate, through publication in the Federal Register, of the purpose and the type of information that is to be collected. FRA will be as specific as possible in order to minimize both costs and the amount of time associated with the collection of this new information. Each SSB has 20 characters in order to standardize the data structure for computer files. FRA believes the SSBs will prove extremely valuable in collecting information to help FRA identify and evaluate issues of safety concern as well as other non-safety issues as the need arises.

FRA invites interested parties to comment on the following: (1) Whether the information collection activities are necessary for FRA to properly execute its functions, including whether the activities will have practical utility; (2) the accuracy of FRA's estimates of the burden of the information collection activities, including the validity of the methodology and assumptions used to determine the estimates; (3) ways FRA can enhance the quality, utility, and clarity of the information being collected; and (4) ways FRA can minimize the burden of information collection activities on the public by automated, electronic, mechanical, or other technological collection techniques or other forms of information technology (e.g., permitting electronic submission of responses). See 44 U.S.C. 3506(c)(2)(A)(i) through (iv); 5 CFR 1320.8(d)(1)(i) through (iv). FRA believes that soliciting public comment will promote its efforts to reduce the administrative and paperwork burdens associated with the collection of information Federal regulations mandate. In summary, FRA reasons that comments received will advance three objectives: (1) Reduce reporting burdens; (2) ensure that it organizes information collection requirements in a “user friendly” format to improve the use of such information; and (3) accurately assess the resources expended to retrieve and produce information requested. See 44 U.S.C. 3501.

Below is a brief summary of the currently approved information collection activities and burdens associated with that information collection that FRA seeks to slightly modify with the instructions attached. FRA intends to revise the Form's instructions only. FRA is not changing the data elements of the Form and believes there will be no change in the number of responses. FRA estimates there will be a minor change in: (1) The burden time per response for the Form where respondents utilize the Special Study Blocks; (2) the total burden hours for the Form; and (3) the total burden hours for the entire currently approved information collection. FRA requests a revision to the current approval for the reasons listed in the summary above.

Title: Accident/Incident Reporting and Recordkeeping.

OMB Control Number: 2130-0500.

Abstract: The collection of information is due to FRA's accident reporting regulations set forth in 49 CFR part 225 which require railroads to submit monthly reports summarizing collisions, derailments, and certain other accident/incidents involving damages above a certain dollar threshold, as well as certain injuries to passengers, employees, and other persons on railroad property (including those which are railroad work-related). Because the reporting requirements and information needed regarding each category are unique, a different form is used for each category. FRA is modifying the instructions for one of the three referenced agency forms to request that the “Special Study Block” (SSB) of Form FRA F 6180.54 to be used to capture (with coded letters) information pertaining to accidents that involve crude oil.

Form Number(s): FRA F 6180.54.

Affected Public: Businesses.

Frequency of Submission: On occasion.

Estimated Total Responses: 2,500 (Form FRA F 6180.54: 1,400 forms will take approximately 2 hours to complete; 600 forms utilizing the three Special Study Blocks will require an additional 1 minute each or a total of 3 extra minutes to complete for a total average burden time of approximately 2 hours and 3 minutes per form; 500 forms will take approximately 1 hour to complete. This total estimate of 2,500 responses is unchanged from the previous total number of responses for this form approved by OMB on July 2, 2014.).

Estimated Total Annual Burden: 4,530 hours (for Form FRA F 6180.54; a total increase of 30 hours from the previous OMB-approved burden estimate of 4,500 hours).

Total Estimated Burden: 39,058 hours (for entire information collection, includes previous OMB-approved burden of 39,028 hours and 30 additional hours for Form FRA F 6180.54 utilizing Special Study Blocks).

Status: Revision of the Current Approval.

Pursuant to 44 U.S.C. 3507(a) and 5 CFR 1320.5(b), 1320.8(b)(3)(vi), FRA informs all interested parties that it may not conduct or sponsor, and a respondent is not required to respond to, a collection of information unless it displays a currently valid OMB control number.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Authority: 44 U.S.C. 3501-3520.

Attachment to Federal Register Notice

Listed below are proposed changes to the instructions for Form FRA F 6180.54 (Rail Equipment Accident/Incident Report). FRA is not proposing changes to any other Accident/Incident Report Form. The proposed changes specify the type of information FRA desires to capture in the Special Study Block (SSB) Block “B” (Block 49b) about train accidents involving trains transporting petroleum crude oil (crude oil). FRA proposes to revise the instructions for completing Block 49b on Form FRA F 6180.54 (the Form) to include the following:

General Definition

Crude Oil—Petroleum crude oil, a regulated hazardous material (HAZMAT), classified as a Class 3 flammable liquid under the applicable Pipeline and Hazardous Materials Safety Administration (PHMSA) regulations. See 49 CFR 172.101.

Specific Codes and Definitions

The Number of Cars Carrying Crude Oil—When the train for which this report is being prepared contained cars carrying crude oil, including cars carrying any residue amounts of crude oil, the number of those cars. (Code = AAA)

The Number of Crude Oil Cars Damaged/Derailed—When the train for which this report is being prepared contained cars carrying crude oil, including cars carrying any residue amounts of crude oil, the number of those cars that were damaged or derailed, including a derailment of only one wheel. (Code = BBB)

The Number of Cars Releasing Crude Oil—When the train for which this report is being prepared contained cars carrying crude oil, including cars carrying any residue amounts of crude oil, the number of those cars that released any portion of their contents (i.e., leaks of any type and amount), including vapor. (Code = CCC)

Selected Instructions for Completing the Form

The current instructions in the FRA Guide for Preparing Accident/Incident Reports (Published May 23, 2011) (Reporting Guide) for completing Blocks 8 (Cars Carrying HAZMAT [Hazardous Material]), 9 (HAZMAT Cars Damaged/Derailed), 10 (Cars Releasing HAZMAT), 11 (People Evacuated), and 52 (Narrative Description) remain unchanged. Crude oil is a regulated HAZMAT. Accordingly, shipments of crude oil will be aggregated with other HAZMAT in the train in blocks 8, 9, and 10. Block 11, People Evacuated, remains unchanged. Detailed instructions for completing these blocks are provided in the Reporting Guide.

The format for Block 49b is—AAA-BBB-CCC—a total of eleven characters including the dashes to indicate the number of crude oil cars in the train as specified below:

• AAA is the count of the Number of Cars Carrying Crude Oil (similar to block 8, but limited to cars carrying crude oil and with leading zeros).

• BBB is the count of the Number of Crude Oil Cars Damaged/Derailed (similar to block 9, but limited to cars carrying crude oil that were damaged/derailed and with leading zeros).

• CCC is the count of the Number of Cars Releasing Crude Oil (similar to block 10, but limited to the number of cars releasing crude oil and with leading zeros).

When there is no crude oil in the train and the equipment in the train meets the qualification of Type of Equipment listed below under section “Applicability” on the Form (i.e., the equipment qualifies as a freight train, work train, single car, cut of cars, or yard/switching equipment), Block 49b must be coded as “000-000-000.”

All other rules for reporting HAZMAT releases and injuries apply, regardless of HAZMAT commodity involved, including the description of the hazardous material released in Form FRA F 6180.54 Block 52 (i.e., Narrative Description by name or Standard Transportation Commodity Code (STCC)), identification of the initial and number of any car releasing hazardous materials, and identification of the name and quantity of hazardous material released. Further instructions are provided in the Reporting Guide.

Additionally, the number of fatalities and injuries resulting from direct exposure to the released substance would still need to be reported in Blocks 46, 47, and 48 on the Form FRA F 6180.54 and in Block 5q (Exposure to Hazmat) on the Railroad Injury and Illness Summary (Continuation Sheet) Form FRA F 6180.55a.

Applicability

Whenever block 25 (Type of Equipment) on the Form FRA F 6180.54 is equal to 1 (Freight Train), or 4 (Work Train), or 5 (Single Car), or 6 (Cut of Cars), or 7 (Yard/switching), then the required information on crude oil in the train must be completed in Block 49b.

Special Study Block 49b Reporting Example: A train carrying three cars of corrosive acid and four cars of crude oil is involved in an FRA reportable train accident, as described—one of the cars carrying the corrosive acid is damaged with no release of product; two cars carrying crude oil are damaged; one of these cars releases crude oil; and there is an evacuation of 25 people, including an injury to a railroad employee due to direct exposure and injury to another employee as a result of the accident, but not related to the release. Accordingly, on the Form FRA F 6180.54 the following information must be entered:

Block 8 enter “7” (representing the 3 cars carrying corrosive acid and the 4 cars carrying crude oil);

Block 9 enter “3” (representing the 1 car derailed carrying corrosive acid, 2 cars damaged carrying crude oil);

Block 10 enter “1” (representing no corrosive acid released, 1 car releasing crude oil);

Block 11 enter “25” (representing the 25 people who were evacuated during the cleanup);

Block 46 (Nonfatal) enter “2” (representing the 2 employees injured);

Block 49b enter “004-002-001” (representing the 4 cars in the train carrying crude oil, the 2 crude oil cars damaged/derailed, and the 1 crude oil car that released product); and Block 52 (Narrative Description) enter a description of the accident in accordance with the Reporting Guide instructions for block 52. For this example, the narrative would include, but not be limited to, the initial and number of the one car that released the crude oil, the name of the HAZMAT released (or STCC) (i.e., crude oil), the quantity of crude oil released, the number of fatalities and injuries resulting from a direct exposure to the released substance (i.e., the one railroad employee injury as a result of direct exposure to the released crude oil), and an estimate of the size of the affected area evacuated and the length of the evacuation. If, in this example, the cars carrying corrosive acid released any hazardous materials, in accordance with the Reporting Guide, the initial and number of any car releasing that material, as well as the name and quantity of that material released would also need to be identified in this block.

On the related Form FRA F 6180.55a, for the employee injured due to exposure to HAZMAT enter “Y” in Block 5q. On another Form FRA F 6180.55a, for the employee injured, not due to exposure, enter “N” in Block 5q.

Issued in Washington, DC, on April 17, 2015.
Brenda Moscoso,
Director, Office of Safety Analysis.

[FR Doc. 2015-09486 Filed 4-23-15; 8:45 am]

BILLING CODE 4910-06-P